DEPARTMENT OF EDUCATION

[Docket No.: ED-2023-SCC-0053]

Agency Information Collection Activities; Comment Request; 2024-2025 Free Application for Federal Student Aid (FAFSA®)

AGENCY: Federal Student Aid (FSA), Department of Education (ED).

ACTION: Notice.

SUMMARY: In accordance with the Paperwork Reduction Act of 1995, ED is proposing a revision of the existing information collection.

DATES: Interested persons are invited to submit comments on or before May 23, 2023.

ADDRESSES: To access and review all the documents related to the information collection listed in this notice, please use https://www.regulations.gov by searching the Docket ID number ED-2023-SCC-0053. Comments submitted in response to this notice should be submitted electronically through the Federal eRulemaking Portal at https://www.regulations.gov by selecting the Docket ID number or via postal mail, commercial delivery, or hand delivery. Please note that comments submitted by fax or email and those submitted after the comment period will not be accepted. Written requests for information or comments submitted by postal mail or delivery should be addressed to the Director of the Information Collection Clearance, U.S. Department of Education, 400 Maryland Avenue SW, LBJ, Room 224-84, Washington, DC 20202-4537.

FOR FURTHER INFORMATION CONTACT: For specific questions related to collection activities, please contact Beth Grebeldinger at (202) 377-4018 or the FAFSA Product Team at fsa_fafsa_team@ed.gov.

SUPPLEMENTARY INFORMATION: The Department of Education (ED), in accordance with the Paperwork Reduction Act of 1995 (PRA) (44 U.S.C. 3506(c)(2)(A)), provides the general public and Federal agencies with an opportunity to comment on proposed, revised and continuing collections of information. This helps ED assess the impact of its information collection requirements and minimize the public's reporting burden. It also helps the public understand ED's information collection requirements and provide the requested data in the desired format. ED is soliciting comments on the proposed information collection request (ICR) that is described below. ED is especially interested in public comments addressing the following issues: (1) is this collection necessary to the proper function of ED; (2) will this information be processed and used in a timely manner; (3) is the estimate of burden accurate; (4) how might ED enhance the quality, utility, and clarity of the information to be collected; and (5) how might ED minimize the burden of this collection on the respondents, including through the use of information technology. Please note that written comments received in response to this notice will be considered public records.

Title of the Collection: 2024-2025 Free Application for Federal Student Aid.

OMB Control Number: 1845-0001.

Type of Review: A revision of a currently approved information collection.

Respondents/Affected Public: Individuals and Households.

Total Estimated Number of Annual Responses: 34,328,439.

Total Estimated Number of Annual Burden Hours: 22,417,460.

Abstract: Section 483, of the Higher Education Act of 1965, as amended (HEA), mandates that the Secretary of Education “. . . shall produce, distribute, and process free of charge common financial reporting forms as described in this subsection to be used for application and reapplication to determine the need and eligibility of a student for financial assistance . . .”.

The determination of need and eligibility are for the following Title IV, HEA, federal student financial assistance programs: the Federal Pell Grant Program; the Campus-Based programs (Federal Supplemental Educational Opportunity Grant (FSEOG) and Federal Work-Study (FWS)),; the William D. Ford Federal Direct Loan (Direct Loan) Program; the Teacher Education Assistance for College and Higher Education (TEACH) Grant; the Children of Fallen Heroes Scholarship; and the Iraq and Afghanistan Service Grant.

Federal Student Aid (FSA), an office of the U.S. Department of Education, subsequently developed an application process to collect and process the data necessary to determine a student's eligibility to receive Title IV, HEA program assistance. The application process involves an applicant's submission of the Free Application for Federal Student Aid (FAFSA®). After submission and processing of the FAFSA form, an applicant receives a FAFSA Submission Report, which is a summary of the processed data they submitted on the FAFSA form. The applicant reviews the FAFSA Submission Summary, and, if necessary, will make corrections or updates to their submitted FAFSA data. Institutions of higher education listed by the applicant on the FAFSA form also receive a summary of processed data submitted on the FAFSA form which is called the Institutional Student Information Record (ISIR).

ED and FSA seek OMB approval of all application components as a single “collection of information.” The aggregate burden will be accounted for under OMB Control Number 1845-0001. The specific application components, descriptions, and submission methods for each are listed in Table 1.

Table 1—Federal Student Aid Application Components
Component | Description | Submission method
Initial Submission of FAFSA form:
fafsa.gov | Any applicant with a Federal Student Aid ID (FSA ID) can complete the electronic version of the FAFSA form | Submitted by the applicant.
Printed FAFSA form | The printed version of the FAFSA PDF for applicants who are unable to access the internet or complete the form using fafsa.gov | Mailed by the applicant.
Correcting and Reviewing Submitted FAFSA information
fafsa.gov—Corrections | Any applicant with an FSA ID—regardless of how they originally applied—may make corrections to their own data. Note that no user will be able to make corrections to any federal tax information (FTI) that was obtained from the IRS | Submitted by the applicant.
Electronic Other—Corrections | With the applicant's permission, corrections can be made by an FAA using the Electronic Data Exchange (EDE) | The FAA may be using their mainframe computer or software to facilitate the EDE process.
Paper FAFSA Submission Summary | The paper summary is mailed to paper applicants who did not provide an email address. Applicants can write corrections directly on the paper FAFSA Submission Summary and mail for processing. Note that users for whom federal tax information (FTI) was obtained from the IRS will not be able to make corrections to that data | Mailed by the applicant.
FAFSA Partner Portal (FPP)—Corrections | An institution can use FPP to correct the FAFSA form | Submitted by an FAA on behalf of an applicant.
Internal Department Corrections | The Department will submit an applicant's record for system-generated corrections to the FAFSA Processing System. There is no burden to the applicants under this correction type as these are system-based corrections | These corrections are system-generated.
Federal Student Aid Information Center (FSAIC) Corrections | Any applicant, with their Data Release Number (DRN), can change the postsecondary institutions listed on their FAFSA form or change their address by calling FSAIC | These changes are made directly in the FPS by an FSAIC representative.
FAFSA Submission Summary—electronic | The electronic FAFSA Submission Summary is an online version of the FAFSA Submission Summary that is available on fafsa.gov to all applicants. Notification for the FAFSA Submission Summary is sent to students who applied electronically or by paper and provided a valid email address. These notifications are sent by email and include a secure hyperlink that takes the user to the fafsa.gov site | Cannot be submitted for processing.

This information collection also documents an estimate of the annual public burden as it relates to the application process for federal student aid. The Applicant Burden Model (ABM) measures applicant burden through an assessment of the activities each applicant conducts in conjunction with other applicant characteristics and, in terms of burden, the average applicant's experience. Key determinants of the ABM include:

• The total number of applicants that will potentially apply for federal student aid;

• How the applicant chooses to complete and submit the FAFSA form (e.g., by paper or electronically);

• How the applicant chooses to submit any corrections and/or updates (e.g., the paper FAFSA Submission Summary or electronically);

• The type of FAFSA Submission Summary document the applicant receives (paper or electronic);

• The formula applied to determine the applicant's student aid index (SAI); and

• The average amount of time involved in preparing to complete the application.

The ABM is largely driven by the number of potential applicants for the application cycle. The total application projection for 2024-2025 is based on the projected total enrollment into post-secondary education for Fall 2024. The ABM is also based on the application options available to students and parents. ED accounts for each application component based on analytical tools, survey information and other ED data sources.

For 2024-2025, ED is reporting a net burden decrease of 427,252 hours.

Dated: March 21, 2023.
Kun Mullan,
PRA Coordinator, Strategic Collections and Clearance Governance and Strategy Division, Office of Chief Data Officer, Office of Planning, Evaluation and Policy Development.

[FR Doc. 2023-06169 Filed 3-22-23; 8:45 am]

BILLING CODE 4000-01-P